DEPARTMENT OF ENERGY

Federal Energy Regulatory Commission

[Project No. 6972-035]

Ampersand Hollow Dam Hydro LLC; Notice of Availability of Environmental Assessment

In accordance with the National Environmental Policy Act of 1969 and the Federal Energy Regulatory Commission's (Commission or FERC) regulations, 18 CFR part 380, Commission staff reviewed Ampersand Hollow Dam Hydro LLC's (licensee) application for surrender and decommissioning of the Hollow Dam Hydroelectric Project No. 6972 and have prepared an Environmental Assessment (EA) for the project.¹ As part of surrender of the project, the licensee proposes to remove equipment from the control room, remove the unit from the powerhouse, and deenergize the substation. The dam, fencing, portage, and parking area would be left in place. No ground disturbance is proposed. The project is located on the West Branch of the Oswegatchie River near the Town of Fowler, in St. Lawrence County, New York. The project does not occupy any federal lands.

¹ The unique identification number for documents relating to this environmental review is EAXX-019-20-000-1753881562.

The EA contains Commission staff's analysis of the potential environmental effects of the proposed surrender, alternatives to the proposed action, and concludes that the proposed action, with staff recommended measures, would not constitute a major federal action that would significantly affect the quality of the human environment.

The EA may be viewed on the Commission's website at http://www.ferc.gov using the “eLibrary” link. Enter the docket number (P-6972) in the docket number field to access the document. For assistance, contact FERC Online Support at FERCOnlineSupport@ferc.gov or toll-free at 1-866-208-3676, or for TTY, (202) 502-8659.

You may also register online at http://www.ferc.gov/docs-filing/esubscription.asp to be notified via email of new filings and issuances related to this or other pending projects. For assistance, contact FERC Online Support.

All comments must be filed by March 16, 2026, 5:00 p.m. Eastern Time.

The Commission strongly encourages electronic filing. Please file comments using the Commission's eFiling system at http://www.ferc.gov/docs-filing/efiling.asp. Commenters can submit brief comments up to 6,000 characters, without prior registration, using the eComment system at http://www.ferc.gov/docs-filing/ecomment.asp. For assistance, please contact FERC Online Support. In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. The first page of any filing should include docket number P-6972-035.

For public inquiries and assistance with making filings such as interventions, comments, or requests for rehearing, contact the Office of Public Participation at (202) 502-6595 or OPP@ferc.gov.

For further information, contact Diana Shannon at 202-502-6136 or diana.shannon@ferc.gov.

(Authority: 18 CFR 2.1.)

Dated: February 13, 2026.
Debbie-Anne A. Reese,
Secretary.

[FR Doc. 2026-03343 Filed 2-19-26; 8:45 am]

BILLING CODE 6717-01-P